DEPARTMENT OF HOMELAND SECURITY

Coast Guard

[Docket No. USCG-2020-0278]

Port Access Route Study: Northern New York Bight; Correction

AGENCY: Coast Guard, DHS.

ACTION: Notice; correction.

SUMMARY: The Coast Guard published a document in the Federal Register on July 15, 2021, concerning a Notice of availability of draft report and public meeting; request for comments for the Port Access Route Study: Northern New York Bight. The document contained incorrect date for the public meeting.

DATES: This correction is effective July 21, 2021.

FOR FURTHER INFORMATION CONTACT: If you have questions on this notice, contact Mr. Craig Lapiejko, Waterways Management at First Coast Guard District, telephone (617) 223-8351, email craig.d.lapiejko@uscg.mil.

SUPPLEMENTARY INFORMATION: The document published on July 15, 2021, at 86 FR 37339, contained incorrect meeting date in the DATES and ADDRESSES sections. The correct date for the meeting is July 30, 2021. The notice incorrectly noted the meeting would be July 30, 2020.

Correction

In the Federal Register of July 15, 2021, in FR Doc. 2021-14757, beginning on page 37339, the following corrections are made:

1. On page 37339, in the second column, in the DATES section, remove the text, “July 30, 2020” and insert, in its place, the text “July 30, 2021”.

2. On page 37339 in the second column, in the ADDRESSES section, remove the text, “July 30, 2020” and insert, in its place, the text “July 30, 2021”.

Dated: July 15, 2021.
M.T. Cunningham,
Chief, Office of Regulations and Administrative Law.

[FR Doc. 2021-15455 Filed 7-20-21; 8:45 am]

BILLING CODE 9110-04-P